DEPARTMENT OF AGRICULTURE

Forest Service

Fremont-Winema National Forest; Chiloquin Ranger District; Oregon: Lobert Restoration Project Environmental Impact Statement

AGENCY: Forest Service, USDA.

ACTION: Notice of intent to prepare an environmental impact statement.

SUMMARY: The Forest Service will prepare an Environmental Impact Statement (EIS) to disclose the environmental effects of commercial and non-commercial vegetation management activities, prescribed burning, road activities, recreation opportunity improvements, and other restoration activities. Other design criteria are included to protect resources and facilitate management activities. The project is located on the Chiloquin Ranger District, Fremont-Winema National Forest, Klamath County, Oregon.

DATES: Comments concerning the scope of the analysis must be received by November 16, 2015. The draft environmental impact statement is expected September 2016 and the final environmental impact statement is expected December 2016.

ADDRESSES: Send written comments to Constance Cummins, Forest Supervisor, Fremont-Winema National Forest, c/o Kelly Ware, 38500 Highway 97 North, Chiloquin, OR 97624. Comments may also be sent via email to comments-pacificnorthwest-winema-chiloquin@fs.fed.us, or via facsimile to 541-783-2134.

FOR FURTHER INFORMATION CONTACT: Kelly Ware, NEPA Planner, Chiloquin Ranger District, 38500 Highway 97 North, Chiloquin, OR 97624. Phone: 541-783-4039. Email: kware@fs.fed.us.

Individuals who use telecommunication devices for the deaf (TDD) may call the Federal Information Relay Service (FIRS) at 1-800-877-8339 between 8 a.m. and 8 p.m., Eastern Time, Monday through Friday.

SUPPLEMENTARY INFORMATION: The Lobert project area encompasses approximately 97,500 acres of National Forest System lands and is located within the Klamath Tribes' former 1954 reservation. The project lies within portions of the Sprague River, Hog Creek-Williamson River, Swan Lake Valley, Long Lake Valley-Upper Klamath Lake, Yonna Valley-Lost River, and Wood River watersheds. The project area is in Klamath County, generally located between the communities of Fort Klamath and Chiloquin, south to Hagelstein Park, and east to Swan Lake Point and Saddle Mountain. The legal description for the project planning area includes Townships 33, 34, 35, 36, 37 South, and Ranges 07, 08, 09, 10 East, Willamette Meridian, Klamath County, Oregon.

Purpose and Need for Action

The purpose and need for the Lobert Restoration Project was developed by comparing the management objectives and desired conditions of the Winema Forest Plan to the existing conditions in the project planning area related to watershed and forest resiliency and function. Where plan information was not explicit, best available science and local research, including the Klamath Tribes' Management Plan, were utilized. Comparison of the existing and desired condition indicates the specific needs to: (1) Restore forest structure, composition, and density toward more resistance and resilient vegetative conditions given the historic fire regime by reducing the horizontal and vertical connectivity and density of standing vegetation, surface fuels, and/or ladder fuels; (2) protect and release large and old trees from competition; (3) reduce uncharacteristic wildfire effects within the project planning area including the Saddle Mountain Cultural Resource Area and WUI; (4) Maintain and improve habitat for fish and wildlife species present in the project planning area, particularly mule deer; (5) restore degraded physical and biological stream processes that sustain floodplain ecosystem structure, function and diversity; (6) implement recovery plans for federally listed species; (7) reduce risk of northern spotted owl habitat degradation and loss from uncharacteristic wildfire and/or insect and disease outbreak; (8) conserve and restore cultural plants and maintain habitat for two rare endemic plant populations; (9) provide for a variety of social and cultural values and opportunities in the project area, including availability of traditional use plants, a variety of wood products, enhanced recreation experiences and opportunities, and a safe road system that moves toward current public access and resource management objectives.

Proposed Action

The Forest proposed action includes restoration activities for the following resources: Vegetation management, aquatic restoration, recreation interpretive site improvement, and associated road management activities to address the purpose and need. These activities would occur over approximately the next 10 years.

Vegetation management will include a mix of commercial thinning, small tree thinning, prescribed fire, and other fuels treatments. The use of different methods would be determined by site conditions, accessibility and specific resource protection needs. The proposal includes 9 different restoration treatments: (1) Dry ponderosa pine restoration; (2) dry mixed conifer restoration; (3) moist mixed conifer restoration; (4) xeric ponderosa pine restoration; (5) dispersal habitat for northern spotted owl (NSO); (6) foraging habitat (NSO); (7) wildland urban interface fuels reduction; (8) riparian restoration; (9) endemic plant enhancement.

The proposed action will include large wood and spawning gravel placement in six stream reaches that are deficient in wood, riparian hardwood species planting, headcut repair, and spring enhancement. Spring enhancement may include: (1) Removal or repair of spring boxes or other spring development equipment; (2) installation of protective fencing; (3) vegetation treatments to improve hydrologic conditions (4) planting/sowing riparian species.

Approximately 13.2 miles of roads are proposed to be closed post-implementation, 162 miles of roads are proposed for decommissioning, and 4.5 miles of roads would have their operational maintenance levels upgraded.

Recreation activities proposed include removal of three flush facilities from the Spring Creek Campground and picnic area and installation of one vault toilet. Two vault toilets that no longer meet water quality standards would be removed from the Oux Kanee Overlook; one would be replaced with a vault toilet that meets current standards.

The Lobert Restoration Project will also include a variety of project design criteria that serve to mitigate impacts of activities to forest resources, including wildlife, soils, watershed condition, aquatic species, riparian habitat conservation areas, heritage resources, visuals, rangeland, botanical resources, and invasive plants. The proposed action may also include amendments to the Winema National Forest Land and Resource Management Plan, as amended.

Possible Alternatives

The Forest Service will consider a range of alternatives. One of these will be the “no action” alternative in which none of the proposed action would be implemented. Additional alternatives may be included in response to issues raised by the public during the scoping process or due to additional concerns for resource values identified by the interdisciplinary team.

Responsible Official

The Forest Supervisor of the Fremont-Winema National Forest, 1301 South G Street, Lakeview, OR 97630, is the Responsible Official. As the Responsible Official, I will decide if the proposed action will be implemented. I will document the decision and rationale for the decision in the Record of Decision. I have delegated the responsibility for preparing the draft EIS and final EIS to the District Ranger, Chiloquin Ranger District.

Nature of Decision To Be Made

Based on the purpose and need, the Responsible Official reviews the proposed action, the other alternatives, the environmental consequences, and public comments on the analysis in order to make the following decision: (1) Whether to implement timber harvest and associated fuels treatments, prescribed burning, and watershed work, including the design features and potential mitigation measures to protect resources; and if so, how much and at what specific locations; (2) What, if any, specific project monitoring requirements are needed to assure design features and potential mitigation measures are implemented and effective, and to evaluate the success of the project objectives. A project specific monitoring plan will be developed.

Scoping Process

This notice of intent initiates the scoping process, which guides the development of the environmental impact statement. The interdisciplinary team will continue to seek information, comments, and assistance from Federal, State, and local agencies, Tribal governments, and other individuals or organizations that may be interested in, or affected by, the proposed action.

It is important that reviewers provide their comments at such times and in such manner that they are useful to the agency's preparation of the environmental impact statement. Therefore, comments should be provided prior to the close of the comment period and should clearly articulate the reviewer's concerns and contentions.

Comments received in response to this solicitation, including names and addresses of those who comment, will be part of the public record for this proposed action. Comments submitted anonymously will be accepted and considered.

Dated: October 1, 2015.
Constance Cummins,
Forest Supervisor.

[FR Doc. 2015-26288 Filed 10-14-15; 8:45 am]

BILLING CODE 3410-11-P